DEPARTMENT OF STATE

[Public Notice: 10466]

Privacy Act of 1974; System of Records

AGENCY: Department of State.

ACTION: Rescindment of a System of Records Notice.

SUMMARY: “Foreign Service Employee Locator/Notification Records, State-12”, which is being rescinded, contains information used to forward employees' mail and for the notification of next of kin in the event of an emergency or death of an employee.

DATES: On March 24, 2018, the Department of State published a notice in the Federal Register (83 FR 17873) that records in State-12 were being consolidated with “Employee Contact Records, State-40” into a single modified State-40, because the records and system purposes are substantially similar.

ADDRESSES: Questions can be submitted by mail, email, or by calling Mary Avery, the Senior Agency Official for Privacy (SAOP), on (202) 663-2215. If mail, please write to: U.S. Department of State; Office of Global Information Systems, Privacy Staff, A/GIS/PRV; SA-2, Suite 8100; Washington, DC 20522-0208. If email, please address the email to the Senior Agency Official for Privacy (SAOP), Mary R. Avery, at Privacy@state.gov. Please write “Foreign Service Employee Locator/Notification Records, State-12” on the envelope or the subject line of your email.

FOR FURTHER INFORMATION CONTACT: Mary R. Avery, Senior Agency Official for Privacy (SAOP); U.S. Department of State; Office of Global Information Services, A/GIS/PRV; SA-2, Suite 8100; Washington, DC 20522-0208 or by calling (202) 663-2215.

SUPPLEMENTARY INFORMATION: The records in “Foreign Service Employee Locator/Notification Records, State-12” (previously published at 42 FR 49705) were consolidated with “Employee Contact Records, State-40” (previously published at 75 FR 67431). The new SORN reflecting the consolidated system of records “Employee Contact Records, State-40” was published at 83 FR 17873 on March 24, 2018.

SYSTEM NAME AND NUMBER

Foreign Service Employee Locator/Notification Records, State-12.

HISTORY:

“Foreign Service Employee Locator/Notification Records, State-12” was previously published at 42 FR 49705 and “Employee Contact Records, State-40” was previously published at 75 FR 67431 before being modified and re-published at 83 FR 17873.

Mary R. Avery,
Senior Agency Official for Privacy, Senior Advisor, Office of Global Information Services, Bureau of Administration, Department of State.

[FR Doc. 2018-15308 Filed 7-17-18; 8:45 am]

BILLING CODE 4710-24-P